DEPARTMENT OF AGRICULTURE

Environmental Statements; Notice of Intent: Cancellation

AGENCY: Forest Service, USDA.

ACTION: Cancellation of Notice of Intent to prepare an environmental impact statement.

SUMMARY: An NOI was signed on January 5, 2001 by Jim Golden, Forest Supervisor, Coconino National Forest, regarding a proposed EIS for improving grassland and woodland vegetation conditions for wildlife, and manage livestock grazing use on the Pickett and Padre Canyon Grazing Allotments. The NOI for the EIS was published in the Federal Register January 18, 2001, page 4795.

After receiving comments and further analysis, the proposed action was adjusted to consider livestock grazing only and a new proposed action was signed August 10, 2001 indicating the environmental analysis was changing from an EIS to an EA and the Forest Service would pursue pinyon, juniper, and ponderosa pine treatments in separate NEPA analyses and decisions. Domestic livestock grazing and pinyon, juniper, and ponderosa pine treatments are dissimilar actions. Separating the two activities into different environmental analyses is more efficient, and focuses the environmental effects more clearly. The deciding official was also changed from the Forest Supervisor to the Mormon Lake District Ranger.

Terri Marceron, Mormon Lake District Ranger is the deciding official for the EA, will be signing the Decision Notice and Finding of No Significant Impact for the Pickett and Padre Canyon Allotments shortly.

FOR FURTHER INFORMATION CONTACT: To Terri Marceron, Mormon Lake District Ranger, Coconino National Forest, 4373 S Lake Mary Road, Flagstaff, Arizona, 86001, (928) 774-1147.

Dated: September 8, 2004.
Joseph P. Stringer,
Deputy Forest Supervisor.

[FR Doc. 04-20683 Filed 9-13-04; 8:45 am]

BILLING CODE 3410-11-M